ENVIRONMENTAL PROTECTION AGENCY

40 CFR Part 52

[CA 268-0360; FRL-7263-8]

Determination of Attainment of the 1-Hour Ozone Standard for the Santa Barbara County Area, CA

AGENCY: Environmental Protection Agency (EPA).

ACTION: Final rule.

SUMMARY: In this rulemaking, EPA is finalizing its determination that the Santa Barbara County area has attained the 1-hour ozone air quality standard by the deadline required by the Clean Air Act (CAA). EPA is also finalizing its approval of the 1-hour ozone contingency measures as revisions to the Santa Barbara portion of the California State Implementation Plan (SIP).

EFFECTIVE DATE: This rule is effective on September 26, 2002.

ADDRESSES: You can inspect copies of the docket for this action at EPA's Region 9 office during normal business hours. You can inspect copies of the submitted SIP revision at the following locations:

U.S. EPA, Region 9, 75 Hawthorne Street, San Francisco, CA 94105-3901.

California Air Resources Board, 1001 I Street, Sacramento, CA 95814

Santa Barbara County Air Pollution Control District, 26 Castilian Drive, Suite B-23, Goleta, CA 93117

FOR FURTHER INFORMATION CONTACT: Dave Jesson, EPA Region 9, (415) 972-3957, or Jesson.David@epa.gov.

SUPPLEMENTARY INFORMATION: Throughout this document, “we,” “us,” and “our” refer to EPA.

I. Proposed Action

On July 1, 2002 (67 FR 44128), we proposed to find that the Santa Barbara County nonattainment area (“Santa Barbara area”) had attained the 1-hour ozone national ambient air quality standard (NAAQS) by the applicable deadline of November 15, 1999. We also proposed to approve under CAA section 110(k)(3) the contingency measures in Santa Barbara's 2001 Clean Air Plan, as shown below in “Table 1—Contingency Measures.''

Table 1.—Contingency Measures
[Source: 2001 Clean Air Plan, Table 4-3]
Rule No. | CAP control measure ID | Description | Adoption schedule | Emission reductions in tons per day (with full implementation): VOC | Emission reductions in tons per day (with full implementation): NOX
323 | R-SC-1 | Architectural Coatings (Revision) | 2001-2003 | 0.0998 | 0
333 | N-IC-1 N-IC-3 | Stationary IC Engines | 2002-2003 | 0.0008 | 0.0128
360 | N-XC-2 | Large Water Heaters & Small Boilers, Steam Generators, Process Heaters (75,000 Btu/hr to <2 MMBtu/hr) | 2001-2003 | 0 | ¹ 0.133
321 | R-SL-1 | Solvent Degreasers (Revision) | 2004-2006 | 0.0562 | 0
362 | R-SL-2 | Solvent Cleaning Operations | 2004-2006 | 1.0103 | 0
363 | N-IC-2 | Gas Turbines | 2004-2006 | 0 | 0
358 | R-SL-4 | Electronic Industry—Semiconductor Manufacturing | 2007-2009 | ² 0.0026 | 0
361 | N-XC-4 | Small Industrial and Commercial Boilers, Steam Generators, and Process Heaters (2 MMBtu/hr to <5 MMBtu/hr) | 2007-2009 | 0 | ³ 0.0028
¹ This is with 15% implementation, the highest implementation figure available from the Santa Barbara County Air Pollution Control District's analysis.
² The data shown is for source classification code (SCC) number 3-13-065-06 only. The emission data for the SCC numbers and the category of emission source (CES) numbers subject to Rule 358 are included in the Rule 321 or Rule 361 emission reduction summaries.
³ The emission reductions shown are based on Rule 361 being a point-of-sale type rule.

The proposed action contains more information on the attainment finding, the Santa Barbara contingency measures, and our evaluation.

II. Public Comments

We received no public comments on the proposed action.

III. EPA Action

Under CAA section 181(b)(2)(A), we are finalizing our finding that Santa Barbara has attained the 1-hour ozone NAAQS by the applicable deadline. We are also approving the contingency measures identified in Table 1, under CAA section 110(k)(3).

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and finds that an area has attained a previously-established national ambient air quality standard based on an objective review of measured air quality data. As such, the action imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard and finds that an area has attained applicable air quality standards, and does not alter the relationship or the distribution of power and responsibilities established in the Clean Air Act. This rule also is not subject to Executive Order 13045, “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by October 28, 2002. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements, Volatile organic compounds.

Authority: 42 U.S.C. 7401 et seq.

Dated: August 8, 2002.
Keith Takata,
Acting Regional Administrator, Region IX.

Part 52, Chapter I, Title 40 of the Code of Federal Regulations is amended as follows:

PART 52—[AMENDED]

1. The authority citation for part 52 continues to read as follows:

Authority: 42 U.S.C. 7401 et seq.

Subpart F—California

2. Section 52.220 is amended by adding paragraph (c)(298) to read as follows:

§ 52.220 Identification of plan.

* * * * *

(c) * * *

(298) New and amended contingency measures for the following APCDs were submitted on May 29, 2002, by the Governor's designee.

(i) Incorporation by reference.

(A) Santa Barbara County Air Pollution Control District.

(1) 2001 Clean Air Plan Contingency Control Measures R-SC-1 (Architectural Coatings); N-IC-1 and N-IC-3 (Control of Emissions from Reciprocating Internal Combustion Engines); N-XC-2 (Large Water Heaters and Small Boilers, Steam Generators, and Process Heaters); R-SL-2 (Solvent Degreasers) [incorrectly identified as CAP Control Measure R-SL-1 in Table 4-3, “Proposed APCD Control Measures”]; R-SL-2 (Solvent Cleaning Operations); N-IC-2 (Gas Turbines); R-SL-4 (Electronic Industry—Semiconductor Manufacturing); N-XC-4 (Small Industrial and Commercial Boilers, Steam Generators, and Process Heaters), adopted on November 15, 2001.

* * * * *

[FR Doc. 02-21285 Filed 8-26-02; 8:45 am]

BILLING CODE 6560-50-P